DEPARTMENT OF TRANSPORTATION

Surface Transportation Board

[STB Finance Docket No. 34260]

Aliquippa & Ohio River Railroad Co.—Acquisition and Operation Exemption—Lines In Aliquippa, PA

Aliquippa & Ohio River Railroad Co. (AORR),¹ a noncarrier, has filed a verified notice of exemption under 49 CFR 1150.31 to acquire and operate approximately 21 miles of rail line owned by Aliquippa & Southern Railroad (A&S), in the vicinity of Aliquippa, PA.² In addition, AORR will purchase from A&S certain parcels of real estate, various items of equipment and shop machinery, three locomotives, and a number of shops, buildings, and vehicles. AORR certifies that its projected revenues as a result of this transaction will not result in the creation of a Class II or Class I rail carrier, and further certifies that its projected annual revenues will not exceed $5 million.

¹ AORR is controlled by Summit View, Inc. (Summit), a noncarrier, which, at the time of filing this notice, controlled nine Class III carriers.

² A&S is a subsidiary of LTV Steel Corp., a company currently under bankruptcy protection.

The transaction was expected to be consummated on or shortly after October 10, 2002, the effective date of the exemption (7 days after the notice was filed).

This transaction is related to STB Finance Docket No. 34261, Summit View, Inc.—Continuance in Control Exemption—Aliquippa & Ohio River Railroad Co., wherein Summit has concurrently filed a verified notice of exemption to continue in control of AORR upon its becoming a Class III rail carrier.

AORR will operate as a switching and terminal railroad, interchanging traffic with CSX Transportation, Inc., at Aliquippa. The major commodities to be handled are steel billets and beams, steel slabs and scrap.

If the verified notice contains false or misleading information, the exemption is void ab initio. Petitions to revoke the exemption under 49 U.S.C. 10502(d) may be filed any time. The filing of a petition to revoke will not automatically stay the transaction.

An original and 10 copies of all pleadings, referring to STB Finance Docket No. 34260, must be filed with the Surface Transportation Board, 1925 K Street, NW, Washington, DC 20423-0001. In addition, a copy of each pleading must be served on Kelvin J. Dowd, Slover & Loftus, 1224 Seventeenth Street, NW., Washington, DC 20036.

Board decisions and notices are available on our Web site at “www.stb.dot.gov.”

Decided: October 22, 2002.
By the Board, David M. Konschnik, Director, Office of Proceedings.
Vernon A. Williams,
Secretary.

[FR Doc. 02-27481 Filed 10-29-02; 8:45 am]

BILLING CODE 4915-00-P